DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160), the Department of the Army announces the following committee meeting:

Name of Committee: Army Science Board (ASB).

Date(s) of Meeting: July 18-19, 2007.

Time(s) of Meeting: 0800-1700, July 18, 2007. 0800-1500, July 19, 2007.

Place of Meeting: Arnold and Mabel Beckman Center, 100 Academy Drive, Irvine CA 92617.

FOR FURTHER INFORMATION CONTACT: For information on Homeland Security/Defense please contact Joe Forman at Joe.Foreman@us.army.mil or (703) 602-8112 and for Options for an Affordable LandWarNet, contact MAJ Fritz McNair at Fritzgerald.mcnair@hqda.army.mil or (703) 604-7108.

SUPPLEMENTARY INFORMATION: Proposed Agenda: The Army Science Board FY07 studies on Homeland Security/Defense and Options for an Affordable LandWarNet will meet on July 18-19, 2007, at the Arnold and Mabel Beckman Center in Irvine, CA. Purpose of the meeting will be to finalize findings and recommendations on Wednesday, July 18, 2007 in preparation for the final briefout to the study sponsors and senior Army leadership on Thursday, July 19, 2007.

Brenda S. Bowen,
Army Federal Register Liaison Officer.

[FR Doc. 07-3230 Filed 6-28-07; 12:28 pm]

BILLING CODE 3710-08-M